DEPARTMENT OF COMMERCE

Census Bureau

Generic Clearance for Proposed Information Collection; Comment Request; Collection of State Administrative Records Data

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995.

DATES: To ensure consideration, written comments must be submitted on or before July 11, 2016.

ADDRESSES: Direct all written comments to Jennifer Jessup, Departmental Paperwork Clearance Officer, Department of Commerce, Room 6616, 14th and Constitution Avenue NW., Washington, DC 20230 (or via the Internet at jjessup@doc .gov).

FOR FURTHER INFORMATION CONTACT: Requests for additional information or copies of the information collection instrument(s) and instructions should be directed to Dr. Amy O'Hara, U.S. Census Bureau, 4600 Silver Hill Road, Room 5k043, Washington, DC 20233 8400 at (301) 763-5757.

SUPPLEMENTARY INFORMATION:

I. Abstract

The U.S. Census Bureau plans to request a general clearance for acquiring State administrative records in order to improve efficiency and accuracy in our data collections, and to improve measures of the population and economy. The Census Bureau has undertaken research projects to integrate and link State administrative records with Census Bureau data from current surveys and censuses.

The Census Bureau uses the State administrative records linked with other survey and census records to conduct further research and improve operations with surveys and censuses, including 2020 Census Operations. The Census Bureau benefits from these projects by improving data quality and estimates, as well as studies of program participation over time. State data providers have benefited through access to tabulated data and reports to better understand the demographic characteristics of program participants and to administer their programs.

II. Method of Collection

The Census Bureau will contact the State Agencies to discuss uses of State administrative records. The State Agencies will enter data sharing agreements with the Census Bureau to provide administrative records data. The State Agency will transfer State administrative records to the Census Bureau via secure File Transfer Protocol or appropriately encrypted CD-ROM or DVD-ROM.

III. Data

OMB Control Number: 0607-XXXX.

Form Number(s): Information will be collected in the form of a data transfer to the Census Bureau. No form will be used.

Type of Review: Regular submission.

Affected Public: State governments.

Estimated Number of Respondents: 50 states and the District of Columbia.

Estimated Time per Response: 75 hours.

Estimated Total Annual Burden Hours: 3,825 hours.

Estimated Total Annual Cost to Public: $80,325.

Respondent's Obligation: Voluntary.

Legal Authority: Title 13 U.S.C. Section 6.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: May 6, 2016.
Glenna Mickelson,
Management Analyst, Office of the Chief Information Officer.

[FR Doc. 2016-11059 Filed 5-10-16; 8:45 am]

BILLING CODE 3510-07-P